DEPARTMENT OF COMMERCE

National Oceanic and Atmospheric Administration

[I.D. 081905A]

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting in September, to consider actions affecting New England fisheries in the exclusive economic zone (EEZ).

DATES: The meeting will be held on Tuesday, September 13 through Thursday, September 15, 2005, beginning at 9 a.m. on Tuesday and 8:30 a.m. on Wednesday and Thursday.

ADDRESSES: The meeting will be held at the Holiday Inn Express, 110 Middle Street High Street, Fairhaven, MA; telephone: (508) 997-1281.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, September 13, 2005

Following introductions, the Council will review and approve a revised policy concerning the election of new officers and conduct elections for 2005-06 officers. Reports will follow from the Council Chairman and Executive Director, the NMFS Regional Administrator, Northeast Fisheries Science Center and Mid-Atlantic Fishery Management Council liaisons, NOAA General Counsel and representatives of the U.S. Coast Guard, NMFS Enforcement and the Atlantic States Marine Fisheries Commission. There also will be an update on the New England Fleet Visioning Project. During the morning session, the Council also will receive a briefing on a proposed rule that will address issues related to the management of Atlantic tunas, swordfish, shark and billfish fisheries. The Magnuson-Stevens Act Committee will provide recommendations for Council approval concerning positions on changes to the Act. The remainder the day will be spent on habitat and ecosystem-related issues. There will be a summary of the most recent activities currently underway and associated with development of essential fish habitat (EFH) Omnibus Amendment 2, as well as consideration and approval of a Council policy on Marine Protected Areas. There also will be an update on the Habitat/Marine Protected Area (MPA)/Ecosystem Committee's progress to develop and recommend alternatives for Habitat Areas of Particular Concern in the EFH Omnibus Amendment. The day will conclude with a report on jurisdictional issues related to wind farm, liquified natural gas and aquaculture projects in the Northeast and an update on the Council's ecosystem project.

Wednesday, September 14, 2005

During the Wednesday morning session, the Council receive a presentation on the Data Quality Act. This will be followed by an open public comment period to address items not listed on the agenda. The Scallop Committee will then present its recommendations for measures to be included in Framework Adjustment 18 to the Sea Scallop Fishery Management Plan (FMP). The Council will consider alternatives and provide final approval on issues related to area rotation, specifications for trip and days-at-sea allocations in 2006 and 2007, a streamlined procedure to adjust the Elephant Trunk Area and open area allocations in 2007, the general category scallop fishery, crew size limits on controlled area access trips and a new bycatch data collection and monitoring program. Also included will be changes in controlled access area trip exchanges, the broken trip limit exemption program and the research set-aside program. Consideration of Framework Adjustment 18 is likely to take most of the day on Wednesday.

Thursday, September 15, 2005

There will be a presentation of the assessment summary from the 41st Northeast Regional Stock Assessment Workshop. Species to be addressed include summer flounder, bluefish and tilefish. This will be followed by a report on a video monitoring pilot study that explores alternative means to supplement and complement observer activities on fishing vessels. The Council also will discuss and consider establishing a control date for party and charter boats in the multispecies fishery, as recommended by the its Recreational Fishing Advisory Panel. During the remainder of the day the Council will take further action on Framework Adjustment 42 to the Northeast Multispecies FMP by identifying additional measures to be analyzed and further considered in the action. These will include the Category B (regular) days-at-sea pilot program, a formal rebuilding program for Georges Bank yellowtail flounder with associated measures, a standardized bycatch reporting methodology, and possible modifications to the rolling closures now in effect to reduce groundfish fishing mortality. The Transboundary Management Guidance Committee is scheduled to ask for approval of its recommendations for the 2006 total allowable catches for cod, haddock and yellowtail flounder in a specific area of Georges Bank that is governed by the U.S./Canada Resource Sharing Understanding. Prior to addressing any other outstanding business, the Council will consider and possibly approve retaining the 2005 herring specifications through the 2006 fishing year.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: August 19, 2005.
Emily Menashes,
Acting Director, Office of Sustainable Fisheries, National Marine Fisheries Service.

[FR Doc. E5-4630 Filed 8-23-05; 8:45 am]

BILLING CODE 3510-22-S